DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of four individuals and two entities whose property and interests in property have been blocked pursuant to the Foreign Narcotics Kingpin Designation Act (Kingpin Act) (21 U.S.C. 1901-1908, 8 U.S.C. 1182).

DATES: The designation by the Acting Director of OFAC of the four individuals and two entities identified in this notice pursuant to section 805(b) of the Kingpin Act is effective on August 27, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 27, 2015, the Acting Director of OFAC designated the following four individuals and two entities whose property and interests in property are blocked pursuant to section 805(b) of the Kingpin Act.

Individuals

1. FONNEGRA ESPEJO, Adolfo, Zurich, Switzerland; Madrid, Spain; DOB 13 Feb 1962; POB Bogota, Colombia; citizen Colombia; Cedula No. 19462357 (Colombia); Passport AN971133 (Colombia) issued 03 Sep 2012 expires 03 Sep 2022 (individual) [SDNTK] (Linked To: ADOLFO FONNEGRA ESPEJO TRADING & INVESTMENT). Designated for materially assisting in, or providing financial or technological support for or to, or providing goods or services in support of, the international narcotics trafficking activities of Omar Arturo ZABALA PADILLA and/or Jose Vicente PENA PACHECO, and/or being owned, controlled, or directed by, or acting for or on behalf of, Omar Arturo ZABALA PADILLA and/or Jose Vicente PENA PACHECO.

2. GONZALEZ MEJIA, Cristian David (a.k.a. GONZALES MEJIA, Cristian), Basel, Switzerland; DOB 01 Aug 1987; POB Bogota, Colombia; citizen Colombia; Cedula No. 1126098461 (Colombia) (individual) [SDNTK]. Designated for materially assisting in, or providing financial or technological support for or to, or providing goods or services in support of, the international narcotics trafficking activities of Omar Arturo ZABALA PADILLA and/or Jose Vicente PENA PACHECO, and/or being owned, controlled, or directed by, or acting for or on behalf of, Omar Arturo ZABALA PADILLA and/or Jose Vicente PENA PACHECO.

3. GONZALEZ ZAMORANO, Ivan, Zurich, Switzerland; DOB 19 Jul 1983; POB Cali, Colombia; citizen Colombia; Cedula No. 14621505 (Colombia) (individual) [SDNTK]. Designated for materially assisting in, or providing financial or technological support for or to, or providing goods or services in support of, the international narcotics trafficking activities of Omar Arturo ZABALA PADILLA and/or Jose Vicente PENA PACHECO, and/or being owned, controlled, or directed by, or acting for or on behalf of, Omar Arturo ZABALA PADILLA and/or Jose Vicente PENA PACHECO.

4. PENA PACHECO, Jose Vicente (Latin: PEÑA PACHECO, Jose Vicente) (a.k.a. PENA PACHECO, Jose Vincente), Zurich, Switzerland; DOB 19 Jul 1968; POB Necocli, Antioquia, Colombia; citizen Colombia; Cedula No. 8188270 (Colombia); alt. Cedula No. 84497137 (Venezuela); Passport AG219114 (Colombia); alt. Passport AJ593373 (Colombia) (individual) [SDNTK] (Linked To: COLOMBIANO LATIN SHOP GMBH). Designated for materially assisting in, or providing financial or technological support for or to, or providing goods or services in support of, the international narcotics trafficking activities of the FARC and/or Omar Arturo ZABALA PADILLA, and/or being owned, controlled or directed by, or acting for or on behalf of, the FARC and/or Omar Arturo ZABALA PADILLA.

Entities

1. ADOLFO FONNEGRA ESPEJO TRADING & INVESTMENT, Badenerstrasse 791, Zurich 8048, Switzerland; Commercial Registry Number CH-020.1.066.499-9 (Switzerland); Company Number CHE-427.006.032 (Switzerland) [SDNTK]. Designated for being owned or controlled by Adolfo FONNEGRA ESPEJO.

2. COLOMBIANO LATIN SHOP GMBH, Dienerstrasse 72, Zurich 8004, Switzerland; Commercial Registry Number CH-020.4.053.829-6 (Switzerland); Company Number CHE-336.114.192 (Switzerland) [SDNTK]. Designated for materially assisting in, or providing financial or technological support for or to, or providing goods or services in support of, the international narcotics trafficking activities of the FARC, Omar Arturo ZABALA PADILLA, and/or Jose Vicente PENA PACHECO, and/or being owned or controlled by, or acting for or on behalf of, the FARC, Omar Arturo ZABALA PADILLA, and/or Jose Vicente PENA PACHECO.

Dated: August 27, 2015.
John E. Smith,
Acting Director, Office of Foreign Assets Control.

[FR Doc. 2015-21696 Filed 9-1-15; 8:45 am]

BILLING CODE 4810-AL-P